OFFICE OF THE UNITED STATES TRADE REPRESENTATIVE

Determination Regarding Waiver of Discriminatory Purchasing Requirements With Respects to Goods and Services of Australia

AGENCY: Office of the United States Trade Representative.

ACTION: Notice.

SUMMARY: The United States has agreed to waive discriminatory purchasing requirements for eligible products and suppliers of Australia beginning on May 5, 2019.

DATES: This notice is applicable on May 5, 2019.

FOR FURTHER INFORMATION CONTACT: Kent Shigetomi, Office of WTO and Multilateral Affairs, at Kent_Shigetomi@ustr.eop.gov or 202-395-9581.

SUPPLEMENTARY INFORMATION:

I. Background

On October 17, 2018, the World Trade Organization (WTO) Committee on Government Procurement approved the accession of Australia to the WTO Agreement on Government Procurement (GPA). Australia submitted its instrument of accession to the Secretary General of the WTO on April 5, 2019. The GPA will enter into force for Australia on May 5, 2019. The United States, which also is a party to the GPA, has agreed to waive discriminatory purchasing requirements for eligible products and suppliers of Australia beginning on May 5, 2019.

II. Determination

Section 1-201 of Executive Order 12260 of December 31, 1980, delegated the functions of the President under sections 301 and 302 of the Trade Agreements Act of 1979 (Act) (19 U.S.C. 2511 and 2512) to the United States Trade Representative (Trade Representative).

In conformity with the Act and to carry out U.S. obligations under the GPA, the Trade Representative has determined that Australia is a party to the GPA and will provide appropriate reciprocal competitive government procurement opportunities to United States products and services and suppliers of such products and services. In accordance with section 301(b)(1) of the Act, the Trade Representative has so designated Australia for purposes of section 301(a) of the Act.

Accordingly, beginning on May 5, 2019, with respect to eligible products of Australia, i.e., those goods and services covered under the GPA for procurement by the United States, and the suppliers of such products, the application of any law, regulation, procedure, or practice regarding government procurement that would, if applied to such products and suppliers, result in treatment less favorable than that accorded to United States products and suppliers of such products, or to eligible products of another foreign country or instrumentality that is a party to the GPA and suppliers of such products, is waived. This waiver shall be applied by all entities listed in United States Annexes 1 and 3 of GPA Appendix 1.

The Trade Representative may modify or withdraw this designation and the waiver.

Jamieson Greer,
Chief of Staff, Office of the U.S. Trade Representative.

[FR Doc. 2019-08543 Filed 4-26-19; 8:45 am]

BILLING CODE 3290-F9-P